ENVIRONMENTAL PROTECTION AGENCY

[EPA-HQ-OPP-2015-0741; FRL-9937-07]

Notice of Receipt of Requests To Voluntarily Cancel Pesticide Registrations and Amend Registrations To Terminate Certain Uses

AGENCY: Environmental Protection Agency (EPA).

ACTION: Notice.

SUMMARY: In accordance with the Federal Insecticide, Fungicide, and Rodenticide Act (FIFRA), EPA is issuing a notice of receipt of requests by the registrants to voluntarily cancel their registrations of certain products containing the pesticides alachlor, atrazine, fludioxonil, glyphosate, POE isooctadecanol, pyrithiobac, quizalofop-p-ethyl, thiamethoxam, and thiophanate methyl, and to amend three dodine product registrations to terminate use on strawberries. The requests would not terminate the last atrazine, fludioxonil, glyphosate, POE isooctadecanol, pyrithiobac, quizalofop-p-ethyl, thiamethoxam, and thiophanate methyl products registered for use in the United States. One request, if granted, would terminate the last alachlor products registered for use in the United States. EPA intends to grant these requests at the close of the comment period for this announcement unless the Agency receives substantive comments within the comment period that would merit its further review of the requests, or unless the registrants withdraw their requests. If these requests are granted, any sale, distribution, or use of products listed in this notice will be permitted after the registrations have been cancelled and uses terminated only if such sale, distribution, or use is consistent with the terms as described in the final order.

DATES: Comments must be received on or before February 4, 2016.

ADDRESSES: Submit your comments, identified by docket identification (ID) number EPA-HQ-OPP-2015-0741, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Miguel Zavala, Pesticide Re-Evaluation Division (7508P), Office of Pesticide Programs, Environmental Protection Agency, 1200 Pennsylvania Ave. NW., Washington, DC 20460-0001; telephone number: (703) 347-0504; email address: zavala.miguel@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Background on the Receipt of Requests To Cancel and/or Amend Registrations To Delete Uses

This notice announces receipt by EPA of requests from ADAMA Agricultural Solutions, Gowan Company, Syngenta Crop Protection, BASF Corporation, and Monsanto Company to cancel certain product registrations and from Agriphar S.A. to amend certain registrations to terminate uses on strawberry.

Alachlor is an herbicide registered for on beans, corn, peanuts, sorghum, and soybeans. There are no non-agricultural use sites. Atrazine is an herbicide registered for use on corn, sorghum, and sugarcane. In a letter dated October 13, 2015, Monsanto requested that EPA cancel all alachlor product registrations identified in Table 1 of Unit III. Several of these alachlor products also contain atrazine. Such action would terminate the last alachlor pesticide products registered in the United States, but would not terminate the last atrazine pesticide products registered in the United States.

Dodine is a fungicide registered for use on almonds, apples, bananas, cherries, nectarines, peaches, peanuts and pecans. There are no non-agricultural use sites. In a letter dated June 22, 2015, Ceres International LLC requested on behalf of Agriphar S.A. that EPA amend certain registrations identified in Table 2 of Unit III to delete the use of dodine on strawberry. This request would delete the strawberry use site from all dodine product labels registered for use in the United States, but would not terminate the last dodine pesticide products registered in the United States.

Fludioxonil is a broad spectrum contact fungicide and antimicrobial that is used on a variety of crops, berries, fruit trees, grasses, herbs, ornamentals, and residential turf, as a preservative for mold remediation and other non-food uses. Thiamethoxam is a broad spectrum nitroguanidine insecticide that is registered for use on several agricultural and non-agricultural commodities. In a letter dated November 19, 2015, Syngenta requested that EPA cancel one pesticide product registration containing both fludioxonil and thiamethoxam identified in Table 1 of Unit III. This action will not terminate the last fludioxonil or thiamethoxam pesticide products registered in the United States.

Glyphosate is a non-selective herbicide registered for use on many food and non-food crops as well as in non-crop and residential areas. Quizalofop-p-ethyl is a systemic herbicide registered for use to control annual and perennial weeds in various food/feed and non-food/feed crops. In a letter dated September 23, 2015, Monsanto Company requested that EPA cancel one pesticide product registration containing both glyphosate and quizalofop-p-ethyl identified in Table 1 of Unit III. This action will not terminate the last glyphosate or quizalofop-p-ethyl pesticide products registered in the United States.

POE isooctadecanol is registered for insect control including mosquitos as a larvicide and pupicide in flooded areas, swamps, sewage, irrigation and drainage systems, and other aquatic sites. In letters dated October 16, 2015, BASF Corporation requested that EPA cancel certain POE isooctadecanol product registrations identified in Table 1 of Unit III. This action will not terminate the last POE isooctadecanol pesticide products registered in the United States.

Pyrithiobac is a selective pre- and post-emergent herbicide used to control a variety of broadleaf weeds in cotton fields. In a letter dated October 1, 2015, ADAMA Agricultural Solutions requested that EPA cancel one pyrithiobac product registration identified in Table 1 of Unit III. This action will not terminate the last pyrithiobac pesticide products registered in the United States.

Thiophanate methyl is a systemic benzimidazole fungicide registered for use on row, field and orchard crops, greenhouses, nurseries, and for commercial seed and bulb dip treatment. In a letter dated May 19, 2015, Gowan Company requested that EPA cancel certain thiophanate methyl product registrations identified in Table 1 of Unit III. This action will not terminate the last thiophanate methyl pesticide products registered in the United States.

III. What action is the Agency taking?

This notice announces receipt by EPA of requests from registrants to cancel certain product registrations of alachlor, atrazine, fludioxonil, glyphosate, POE isooctadecanol, pyrithiobac, quizalofop-p-ethyl, thiamethoxam, and thiophanate methyl, and terminate uses on strawberries for certain dodine registrations. The affected products and the registrants making the requests are identified in Tables 1-3 of this unit.

Unless a request is withdrawn by the registrant or if the Agency determines that there are substantive comments that warrant further review of this request, EPA intends to issue an order canceling the affected registrations and amending to terminate certain uses the affected registrations for which the Agency received use termination requests.

Table 1—Alachlor, Atrazine, Fludioxonil, Glyphosate, POE Isooctadecanol, Pyrithiobac, Quizalofop-p-ethyl, Thiamethoxam, and Thiophanate Methyl Product Registrations With Requests for Cancellation
Registration No. | Product name | Active ingredient
100-1249 ᵃ | Adage Maxim 4FS Twin-Pak | Fludioxonil and Thiamethoxam.
524-314 | Lasso Herbicide | Alachlor.
524-316 | Lasso 94% Stabilized Technical | Alachlor.
524-329 | Lariat Herbicide | Alachlor and Atrazine.
524-344 | Micro-Tech Herbicide | Alachlor.
524-418 | Bullet Herbicide | Alachlor and Atrazine.
524-523 ᵃ | MON 78746 Herbicide | Glyphosate-isopropylammonium and Quizalofop-p-ethyl.
7969-333 | Agnique MMF Mosquito Larvicide & Pupicide | POE Isooctadecanol.
7969-334 | Agnique MMF-GR Mosquito, Larvicide, & Pupicide | POE Isooctadecanol.
7969-340 | Cando Poly Mosquito Film | POE Isooctadecanol.
10163-291 ᵃ | Thiophanate Methyl Technical 98.4 | Thiophanate Methyl.
10163-292 ᵃ | Thiophanate Methyl Technical | Thiophanate Methyl.
83558-11 | Pyrithiobac-sodium Technical | Pyrithiobac-Sodium.
ᵃ There are no existing stocks of these product registrations and no requests for existing stocks provisions. Therefore, no existing stocks provision will be provided for these product registrations.

Table 2—Dodine Product Registrations With Requests for Amendment To Terminate One or More Uses
Registration No. | Product name | Active ingredient | Use to be deleted
55260-4 | Dodine Technical | Dodine | Strawberries.
55260-6 | Syllit Flow Fungicide | Dodine
55260-11 | Syllit 65WG | Dodine

Table 3 of this unit includes the names and addresses of record for the registrants of the products listed in Table 1 and Table 2 of this unit, in sequence by EPA company number. This number corresponds to the first part of the EPA registration numbers of the products listed in Table 1 and Table 2 of this unit.

Table 3—Registrants Requesting Voluntary Cancellation and/or Amendments
EPA Company No. | Company name and address
100 | Syngenta Crop Protections, LLC, 410 Swing Road, P.O. Box 18300, Greensboro, NC 27419-8300.
524 | Monsanto Company, 1300 I Street NW., Suite 450 East, Washington, DC 20005-7211.
7969 | BASF Corporation, 26 Davis Drive, P.O. Box 13528, Research Triangle Park, NC 27709-3528.
10163 | Gowan Company, P.O. Box 5569, Yuma, AZ 85366-5569.
55260 | Agriphar S.A., 15401 Weston Parkway, Suite 150, Cary, NC 27513.
83558 | ADAMA Celsius Property B.V. Amsterdam (NL), 3120 Highwoods Blvd., Suite 100, Raleigh, NC 27604.

IV. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

The alachlor, atrazine, dodine, fludioxonil, glyphosate, pyrithiobac, POE isooctadecanol, quizalofop-p-ethyl, thiamethoxam, and thiophanate methyl registrants have requested that EPA waive the 180-day comment period. Accordingly, EPA will provide a 30-day comment period on the proposed requests.

V. Procedures for Withdrawal of Requests

Registrants who choose to withdraw a request for product cancellation or use deletion should submit the withdrawal in writing to the person listed under FOR FURTHER INFORMATION CONTACT. If the product(s) have been subject to a previous cancellation action, the effective date of cancellation and all other provisions of any earlier cancellation action are controlling.

VI. Provisions for Disposition of Existing Stocks

Existing stocks are those stocks of registered pesticide products that are currently in the United States and that were packaged, labeled, and released for shipment prior to the effective date of the action. If the requests for voluntary cancellation and amendments to delete uses are granted, the Agency intends to publish the cancellation order in the Federal Register.

In any order issued in response to these requests for cancellation of product registrations and for amendments to delete uses, EPA proposes to include the following provisions for the treatment of any existing stocks of the products listed in Tables 1 and 2 of Unit III.

A. For Products 524-523, 10163-291, 10163-292, and 100-1249 in Table 1 of Unit III

The registrants reported to the Agency via written correspondence that there are no existing stocks of these products. Therefore, no existing stocks provision was requested by or is needed for these registrants. The registrants will be prohibited from selling or distributing these products upon cancellation of these products, except for export consistent with FIFRA section 17 (7 U.S.C. 136o) or for proper disposal.

B. For All Other Products Identified in Table 1 of Unit III

Because the Agency has identified no significant potential risk concerns associated with these pesticide products, upon cancellation, EPA anticipates allowing the registrants to sell and distribute existing stocks these products for 1 year after the effective date of the cancellation; i.e., one year after the date of publication of the cancellation order in the Federal Register. Thereafter, registrants will be prohibited from selling or distributing the products identified in Table 1 of Unit III, except for export consistent with FIFRA section 17 (7 U.S.C. 136o) or for proper disposal.

Persons other than the registrant will generally be allowed to sell, distribute, or use existing stocks of the affected canceled products until such stocks are exhausted, provided that such sale, distribution, or use is consistent with the terms of the previously approved labeling on, or that accompanied, the canceled products.

C. For All Products Identified in Table 2 of Unit III

Once EPA has approved product labels reflecting the requested amendments to terminate uses, registrants will be permitted to sell or distribute products under the previously approved labeling for a period of 18 months after the date of Federal Register publication of the cancellation order, unless other restrictions have been imposed. Thereafter, registrants will be prohibited from selling or distributing the products whose labels include the terminated uses identified in Table 2 of Unit III, except for export consistent with FIFRA section 17 or for proper disposal.

Persons other than the registrant may sell, distribute, or use existing stocks of the products whose labels include the terminated uses until supplies are exhausted, provided that such sale, distribution, or use is consistent with the terms of the previously approved labeling on, or that accompanied, the products with the terminated uses.

Authority: 7 U.S.C. 136 et seq.

Dated: December 23, 2015.
Richard P. Keigwin, Jr.,
Director, Pesticide Re-Evaluation Division, Office of Pesticide Programs.

[FR Doc. 2015-33179 Filed 1-4-16; 8:45 am]

BILLING CODE 6560-50-P